DEPARTMENT OF TRANSPORTATION

Federal Aviation Administration

14 CFR Part 39

[Docket No. FAA-2007-28619; Directorate Identifier 2007-NM-004-AD; Amendment 39-15212; AD 2007-20-02]

RIN 2120-AA64

Airworthiness Directives; Viking Air Limited Model DHC-7 Airplanes

AGENCY: Federal Aviation Administration (FAA), Department of Transportation (DOT).

ACTION: Final rule.

SUMMARY: The FAA is adopting a new airworthiness directive (AD) for all Viking Air Limited Model DHC-7 airplanes. This AD requires an inspection of certain SM-200 servo drive units (power servo motor and housing assemblies) for certain markings, related investigative action if necessary, and modification if necessary. This AD results from a report that some SM-200 servo drive units that were not in configuration MOD H are installed on Model DHC-7 airplanes. MOD H prevents the internal clutch fasteners from backing out. We are issuing this AD to prevent the possibility of internal clutch fasteners from backing out, which could cause an inadvertent servo engagement and consequent reduced controllability of the airplane.

DATES: This AD becomes effective October 31, 2007.

The Director of the Federal Register approved the incorporation by reference of a certain publication listed in the AD as of October 31, 2007.

ADDRESSES: You may examine the AD docket on the Internet at http://dms.dot.gov or in person at the U.S. Department of Transportation, Docket Operations, M-30, West Building Ground Floor, Room W12-140, 1200 New Jersey Avenue, SE., Washington, DC.

Contact Viking Air Limited, 9574 Hampden Road, Sidney, British Columbia V8L 5V5, Canada, for service information identified in this AD.

FOR FURTHER INFORMATION CONTACT: Ezra Sasson, Aerospace Engineer, Systems and Flight Test Branch, ANE-172, FAA, New York Aircraft Certification Office, 1600 Stewart Avenue, Suite 410, Westbury, New York 11590; telephone (516) 228-7320; fax (516) 794-5531.

SUPPLEMENTARY INFORMATION:

Examining the Docket

You may examine the AD docket on the Internet at http://dms.dot.gov or in person at the Docket Operations office between 9 a.m. and 5 p.m., Monday through Friday, except Federal holidays. The Docket Operations office (telephone (800) 647-5527) is located on the ground floor of the West Building at the DOT street address stated in the ADDRESSES section.

Discussion

The FAA issued a notice of proposed rulemaking (NPRM) to amend 14 CFR part 39 to include an AD that would apply to all Viking Air Limited Model DHC-7 airplanes. That NPRM was published in the Federal Register on July 6, 2007 (72 FR 36925). That NPRM proposed to require an inspection of certain SM-200 servo drive units (power servo motor and housing assemblies) for certain markings, related investigative action if necessary, and modification if necessary.

Comments

We provided the public the opportunity to participate in the development of this AD. We received no comments on the NPRM or on the determination of the cost to the public.

Conclusion

We have carefully reviewed the available data and determined that air safety and the public interest require adopting the AD as proposed.

Costs of Compliance

The following table provides the estimated costs for U.S. operators to comply with this AD.

Estimated Costs
Action | Work hours | Average labor rate per hour | Cost per airplane | Number of U.S.-registered airplanes | Fleet cost
Inspection | 1 | $80 | $80 | 21 | $1,680

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-20-02 Viking Air Limited (Formerly Bombardier, Inc.): Amendment 39-15212. Docket No. FAA-2007-28619; Directorate Identifier 2007-NM-004-AD.

Effective Date

(a) This AD becomes effective October 31, 2007.

Affected ADs

(b) None.

Applicability

(c) This AD applies to all Viking Air Limited Model DHC-7-1, DHC-7-100, DHC-7-101, DHC-7-102, and DHC-7-103 airplanes, certificated in any category.

Unsafe Condition

(d) This AD results from a report that some SM-200 servo drive units (power servo motor and housing assemblies) that were not in configuration MOD H are installed on Model DHC-7 airplanes. MOD H prevents the possibility of internal clutch fasteners from backing out. We are issuing this AD to prevent the internal clutch fasteners from backing out, which could cause an inadvertent servo engagement and consequent reduced controllability of the airplane.

Compliance

(e) You are responsible for having the actions required by this AD performed within the compliance times specified, unless the actions have already been done.

Inspection and Modification

(f) Within 12 months after the effective date of this AD: Inspect the SM-200 power servo motor and housing assembly, part numbers 4006719-904, -913 and -933, to determine if MOD H is marked, and before further flight, do all applicable related investigative action and modifications of the power servo motor and housing assembly, in accordance with the Accomplishment Instructions of Viking Alert Service Bulletin 7-22-20, dated May 29, 2006.

Note 1: The alert service bulletin refers to Honeywell Alert Service Bulletin 4006719-22-A0016 (Pub. No. A21-1146-008), Revision 001, dated November 1, 2004, as an additional source of service information for doing the inspection, related investigative action, and modifications.

Alternative Methods of Compliance (AMOCs)

(g)(1) The Manager, New York Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(h) Canadian airworthiness directive CF-2006-18, dated July 17, 2006, also addresses the subject of this AD.

Material Incorporated by Reference

(i) You must use Viking Alert Service Bulletin 7-22-20, dated May 29, 2006, to perform the actions that are required by this AD, unless the AD specifies otherwise. The Director of the Federal Register approved the incorporation by reference of this document in accordance with 5 U.S.C. 552(a) and 1 CFR part 51. Contact Viking Air Limited, 9574 Hampden Road, Sidney, British Columbia V8L 5V5, Canada, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on September 19, 2007.
John Piccola,
Acting Manager, Transport Airplane Directorate, Aircraft Certification Service.

[FR Doc. E7-18863 Filed 9-25-07; 8:45 am]

BILLING CODE 4910-13-P